DEPARTMENT OF ENERGY

Federal Energy Regulatory Commission

[Docket No. RP03-324-000]

Southern Star Central Gas Pipeline, Inc.; Notice of Tariff Filing

April 3, 2003.

Take notice that on March 31, 2003, Southern Star Central Gas Pipeline, Inc. (Southern Star) tendered for filing as part of its FERC Gas Tariff, Original Volume No.1, Original Sheet No. 0 through Original Sheet No. 514, to become effective April 30, 2003.

Southern Star states that the purpose of this filing is to restate Southern Star's FERC Gas Tariff, Original Volume No. 1 to reflect its name change to Southern Star Central Gas Pipeline, LLC rather than Williams Gas Pipelines Central, Inc. as currently on file with the Commission. Southern Star states that the instant filing reflects the change to Southern Star, the repagination of tariff sheets and minor modifications to the text of various tariff sheets to reflect the repagination. Southern Star also states that the instant filing makes no changes to the Rates, Rate Schedules, General Terms and Conditions or Form of Service Agreements.

Southern Star further states that copies of the transmittal letter and appendices (excluding Appendix C) are being mailed to Southern Star's jurisdictional customers and interested state commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-9098 Filed 4-11-03; 8:45 am]

BILLING CODE 6717-01-P